DEPARTMENT OF COMMERCE

International Trade Administration

North American Free Trade Agreement, Article 1904, NAFTA Panel Reviews; Notice of Panel Decision

AGENCY: NAFTA Secretariat, United States Section, International Trade Administration, Department of Commerce.

ACTION: Notice of panel decision.

SUMMARY: On March 5, 2004, the binational panel issued its decision in the review of the final results of the affirmative antidumping duty re-determination on remand made by the International Trade Administration (ITA) respecting Certain Softwood Lumber Products from Canada (Secretariat File No. USA-CDA-2002-1904-02) affirmed in part and remanded in part the determination of the Department of Commerce. The Department will return the second determination on remand no later than April 21, 2004. A copy of the complete panel decision is available from the NAFTA Secretariat.

FOR FURTHER INFORMATION CONTACT: Caratina L. Alston, United States Secretary, NAFTA Secretariat, Suite 2061, 14th and Constitution Avenue, Washington, DC 20230, (202) 482-5438.

SUPPLEMENTARY INFORMATION: Chapter 19 of the North American Free-Trade Agreement (“Agreement”) establishes a mechanism to replace domestic judicial review of final determinations in antidumping and countervailing duty cases involving imports from the other country with review by independent binational panels. When a Request for Panel Review is filed, a panel is established to act in place of national courts to review expeditiously the final determination to determine whether it conforms with the antidumping or countervailing duty law of the country that made the determination.

Under Article 1904 of the Agreement, which came into force on January 1, 1994, the Government of the United States, the Government of Canada and the Government of Mexico established Rules of Procedure for Article 1904 Binational Panel Reviews (“Rules”). These Rules were published in the Federal Register on February 23, 1994 (59 FR 8686).

Panel Decision: On March 5, 2004, the Binational Panel affirmed in part and remanded in part the Department of Commerce's final antidumping duty determination on remand. The following issues were remanded to the Department:

1. To recalculate Tembec's General and Administrative expense, using the amounts reflected in the company's books and records as expenses for the Forest Products Group;

2. To calculate the by-product offset to West Fraser's production costs using the company's recorded revenues from chip sales to affiliates in British Columbia during the period of investigation; and

3. To treat Slocan's futures trading profits as an adjustment to that company's indirect selling expenses.

Commerce was directed to issue it's determination on remand within 21 days of the issuance of the panel order dated March 31, 2004, or not later than April 21, 2004.

Dated: April 2, 2004.
Caratina L. Alston,
United States Secretary, NAFTA Secretariat.

[FR Doc. 04-7933 Filed 4-7-04; 8:45 am]

BILLING CODE 3510-GT-P